DEPARTMENT OF HOMELAND SECURITY

Federal Emergency Management Agency

[Docket ID: FEMA-2011-0015]

Agency Information Collection Activities: Proposed Collection; Comment Request, OMB No. 1660-0002; Disaster Assistance Registration

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the Disaster Assistance Registration process.

DATES: Comments must be submitted on or before December 6, 2011.

ADDRESSES: To avoid duplicate submissions to the docket, please use only one of the following means to submit comments:

(1) Online. Submit comments at http://www.regulations.gov under Docket ID FEMA-2011-0015. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0015 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: John Quintanilla, Supervisory Program Specialist, FEMA, Recovery Directorate, (504) 686-3603 for additional information. You may contact the Records Management Division for copies of the proposed collection of information at facsimile number (202) 646-3347 or e-mail address: FEMA-Information-Collections-Management@dhs.gov.

SUPPLEMENTARY INFORMATION: The Robert T. Stafford Disaster Relief and Emergency Assistance Act (Pub. L. 93-288) (the Stafford Act), as amended, is the legal basis for the Federal Emergency Management Agency (FEMA) to provide financial needs and services to individuals who apply for disaster assistance benefits in the event of a federally declared disaster. Regulations in title 44 Code of Federal Regulations (CFR), Subpart D, “Federal Assistance to Individuals and Households”, implement the policy and procedures set forth in section 408 of the Stafford Act, 42 U.S.C. 5174, as amended. This program provides financial assistance and, if necessary, direct assistance to eligible individuals and households who, as a direct result of a major disaster, have uninsured or under-insured, damage, necessary expenses, and serious needs which are not covered through other means.

Individuals and households may apply for assistance under the Individuals and Households program via telephone or Internet. FEMA utilizes paper forms 009-0-1 (English) Disaster Assistance Registration or FEMA Form 009-0-2 (Spanish), Solicitud/Registro Para Asistencia De Resastre to register individuals.

FEMA provides direct assistance to eligible applicants pursuant to the requirements in 44 CFR 206.117. To receive direct assistance for housing (e.g., mobile home or travel trailer) from FEMA, the applicant is required to acknowledge and accept the conditions for occupying government property. The form used is the Declaration and Release; FEMA Form 009-0-4, or the Declaración Y Autorización; FEMA Form 009-0-5 Receipt for Government Property. In addition, the applicant is required to acknowledge that he or she has been informed of the conditions for continued direct housing assistance. To accomplish these notifications, FEMA uses the applicant's household composition data in National Emergency Management Information System NEMIS to prepare a Receipt for Government Property FEMA Form 009-0-5, or Recibo de Propiedad del Gobierno FEMA Form 009-0-6.

Federal public benefits are to be provided to U.S. citizens, non-citizen nationals, or qualified aliens. A parent or guardian of a minor child may be eligible for disaster assistance if the minor child is a U.S. citizen, non-citizen national, or qualified alien, and the minor child lives with the parent or guardian. See 8 U.S.C. 1601-1646.

By signing FEMA Forms 009-0-3, Declaration and Release or 009-0-4, Declaración Y Autorización an applicant or a member of the applicant's household is attesting to being a U.S. citizen, non-citizen national, or qualified alien. A parent or guardian of a minor child signing FEMA Forms 009-0-3, Declaration and Release or 009-0-4, Declaración Y Autorización is attesting that the minor child is a U.S. citizen, non-citizen national, or qualified alien.

Collection of Information

Title: Disaster Assistance Registration.

Type of Information Collection: Revision of a currently approved information collection.

OMB Number: 1660-0002.

Form Titles and Numbers: FEMA Form 009-0-1T (English) Tele-Registration, Disaster Assistance Registration; FEMA Form 009-0-1Int (English) Internet, Disaster Assistance Registration; FEMA Form 009-0-2Int (Spanish) Internet, Registro Para Asistencia De Desastre; FEMA Form 009-0-1 (English) Paper Application/Disaster Assistance Registration; FEMA Form 009-0-2 (Spanish), Solicitud en Papel/Registro Para Asistencia De Desastre; FEMA Form 009-0-1S (English) Smartphone, Disaster Assistance Registration; FEMA Form 009-0-2S (Spanish) Smartphone, Registro Para Asistencia De Desastre; FEMA Form 009-0-3 (English), Declaration and Release; FEMA Form 009-0-4 (Spanish), Declaración Y Autorización; FEMA Form 009-0-5 (English) Receipt for Government Property; FEMA Form 009-0-6 (Spanish) Recibo de la Propiedad del Gobierno.

Abstract: The Disaster Assistance Registration form is used to collect pertinent information to provide financial assistance, and if necessary, direct assistance to eligible individuals and households who, as a direct result of a disaster or emergency, have uninsured or under-insured, necessary or serious expenses that they are unable to meet through other means.

Affected Public: Individuals or Households.

Estimated Total Annual Burden Hours: 555,009 hours.

Estimated Annualized Burden Hours and Costs
Type of respondent | Form name/form number | Number of respondents | Number of responses per respondent | Total number of responses | Avg. burden per response (in hours) | Total annual burden (in hours) | Avg. hourly wage rate | Total annual respondent cost
Individuals or Households | Tele-Registration Application for Disaster Assistance (English)/FEMA Forms 009-0-1T | 1,151,255 | 1 | 1,151,255 | 0.3 (18 mins.) | 345,377 | $30.66 | $10,589,258
Individuals or Households | Internet Application for Disaster Assistance (English and Spanish)/FEMA Forms 009-0-1Int and 009-0-2Int | 323,039.80 | 1 | 323,039.80 | 0.3 (18 mins.) | 96,912 | 30.66 | 2,971,321.90
Individuals or Households | Paper Application for Disaster Assistance (English and Spanish)/FEMA Forms 009-0-1 and 009-0-2 | 51,549 | 1 | 51,549 | 0.3 (18 mins.) | 15,465 | 30.66 | 474,156.90
Individuals or Households | Smartphone Application for Disaster Assistance/FEMA Forms (English and Spanish) 009-0-1S and 009-0-2S | 192,447.20 | 1 | 192,447.20 | .3 (18 mins.) | 57,734 | 30.66 | 1,770,124.40
Individuals or Households | Declaration and Release (English and Spanish)/FEMA Forms 009-0-3 and 009-0-4 | 1,099,706 | 1 | 1,099,706 | .033 (2 mins.) | 36,657 | 30.66 | 1,123,903.60
Individuals or Households | Receipt of Government Property (English and Spanish)/FEMA Form 009-0-5 and 009-0-6 | 17,183 | 1 | 17,183 | .1 (10 mins) | 2,864 | 30.66 | 87,810.24
Total |  | 2,835,180 |  | 2,835,180 |  | 555,009 |  | 17,016,572.24

Estimated Cost: There are no operation and maintenance, or capital and start-up costs associated with this collection of information.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: September 30, 2011.
Lesia M. Banks,
Director, Records Management Division, Mission Support Bureau, Federal Emergency Management Agency, Department of Homeland Security.

[FR Doc. 2011-25978 Filed 10-6-11; 8:45 am]

BILLING CODE 9111-23-P